NUCLEAR REGULATORY COMMISSION

[Docket No. 040-08976]

Notice of Finding of No Significant Impact and Availability of Environmental Assessment for License Amendment of Source Material License No. SMB-1527, Viacom, Incorporated, Bloomfield, New Jersey

I. Introduction

The U.S. Nuclear Regulatory Commission (NRC) is considering the issuance of a license amendment to Viacom, Incorporated (Viacom) for Source Material License No. SMB-1527, to authorize release of the former lamp manufacturing plant located at One Westinghouse Plaza, Bloomfield, New Jersey for unrestricted use and has prepared an Environmental Assessment (EA) in support of this action in accordance with the requirements of 10 CFR part 51. Based on the EA, the NRC has concluded that a Finding of No Significant Impact (FONSI) is appropriate.

II. Environmental Assessment

The purpose of the proposed action is to allow for the release of the licensee's Bloomfield, New Jersey facility for unrestricted use. Viacom, Incorporated in Bloomfield, New Jersey (formerly Westinghouse Electric Corporation and CBS Corporation) was authorized by NRC since February 3, 1989, to possess radioactive materials for decommissioning purposes at the site. On August 21, 2002, Viacom requested that NRC release the Bloomfield, New Jersey facility for unrestricted use. Viacom has conducted surveys of the facility and determined that the facility meets the license termination criteria in Subpart E of 10 CFR part 20.

III. Finding of No Significant Impact

The NRC staff has evaluated Viacom's request and the results of the surveys and has concluded that the completed action complies with the criteria in subpart E of 10 CFR part 20. The staff has prepared the EA (summarized above) in support of the proposed license amendment to terminate the license and release the facility for unrestricted use. On the basis of the EA, NRC has concluded that the environmental impacts from the proposed action are not expected to be significant and has determined not to prepare an environmental impact statement for the proposed action.

IV. Further Information

The EA and the documents related to this proposed action, including the application for the license amendment and supporting documentation, are available for inspection at NRC's Public Electronic Reading Room at http://www.nrc.gov/reading-rm/adams.html (ADAMS Accession No. ML032250208. These documents are also available for inspection and copying for a fee at the Region I Office, 475 Allendale Road, King of Prussia, Pennsylvania, 19406. Any questions with respect to this action should be referred to Mark C. Roberts, Decommissioning and Laboratory Branch, Division of Nuclear Materials Safety, Region I, 475 Allendale Road, King of Prussia, Pennsylvania, 19406, telephone (610) 337-5094, fax (610) 337-5269.

Dated at King of Prussia, Pennsylvania this 13th day of August, 2003.
For The Nuclear Regulatory Commission.
Francis Costello,
Deputy Division Director, Division of Nuclear Materials Safety, Region I.

[FR Doc. 03-21883 Filed 8-26-03; 8:45 am]

BILLING CODE 7590-01-P